DEPARTMENT OF DEFENSE

Department of the Air Force

U.S. Air Force Software Licensing Availability

AGENCY: Air Force Research Laboratory Information Directorate, Rome, New York, Department of the Air Force, DoD.

ACTION: Notice of availability to license software.

SUMMARY: Under the 2014 National Defense Authorization Act, the Department of the Air Force announces the availability of DATA SCULPTOR VERSION 1 AND DATA SCULPTOR VERSION 2 SOURCE CODE AND SOFTWARE DOCUMENTATION (collectively “Software”) for non-exclusive, partially exclusive, and exclusive field of use licensing of any right, title and interest the United States Air Force has therein.

FOR FURTHER INFORMATION CONTACT: Written inquiries should be sent to: Stephen Colenzo, Air Force Research Laboratory, Office of Research and Technology Applications (ORTA), AFRL/RIBA, 26 Electronic Parkway, Rome, New York 13441-4514. Telephone: (315) 330-7665. Electronic inquiries should be sent to stephen.colenzo@us.af.mil.

Carlinda N. Lotson,
Acting Air Force Federal Register Liaison Officer.

[FR Doc. 2019-10435 Filed 5-20-19; 8:45 am]

BILLING CODE 5001-10-P